DEPARTMENT OF THE TREASURY

Office of Thrift Supervision

Bradford Bank: Baltimore, MD; Notice of Appointment of Receiver

Notice is hereby given that, pursuant to the authority contained in section 5(d)(2) of the Home Owners' Loan Act, the Office of Thrift Supervision (OTS) has duly appointed the Federal Deposit Insurance Corporation as sole Receiver for Bradford Bank, Baltimore, Maryland (OTS No. 01348), on August 28, 2009.

Dated: September 1, 2009.
By the Office of Thrift Supervision.
Sandra E. Evans,
Federal Register Liaison.

[FR Doc. E9-21473 Filed 9-4-09; 8:45 am]

BILLING CODE 6720-01-M